FEDERAL COMMUNICATIONS COMMISSION

Schedule Change Open Commission Meeting, Thursday, October 27, 2016

October 25, 2016.

Please note that the time for the Federal Communications Commission Open Meeting is rescheduled from 10:30 a.m. to 9:30 a.m.

The Federal Communications Commission will consider the Agenda items listed on the Commission's Notice of October 20 at the Open Meeting on Thursday, October 27, 2016, scheduled to commence at 9:30 a.m. in room TW-C305, at 445 12th Street SW., Washington, DC. The order of the agenda items is changed as follows:

Item No. | Bureau | Subject
1 | Enforcement | Title: Locus Telecommunications, Inc.
|  | Summary: The Commission will consider a Memorandum Opinion and Order that dismisses and denies a Petition for Reconsideration of a Forfeiture Order issued by the Commission for the deceptive marketing of prepaid calling cards.
2 | Enforcement | Title: Lyca Tel, LLC.
|  | Summary: The Commission will consider a Memorandum Opinion and Order that dismisses and denies a Petition for Reconsideration of a Forfeiture Order issued by the Commission for the deceptive marketing of prepaid calling cards.
3 | Enforcement | Title: Touch-Tel USA, LLC.
|  | Summary: The Commission will consider a Memorandum Opinion and Order that dismisses and denies a Petition for Reconsideration of a Forfeiture Order issued by the Commission for the deceptive marketing of prepaid calling cards.
4 | Enforcement | Title: NobelTel, LLC.
|  | Summary: The Commission will consider a Memorandum Opinion and Order that dismisses and denies a Petition for Reconsideration of a Forfeiture Order issued by the Commission for the deceptive marketing of prepaid calling cards.
5 | Wireline Competition | Title: Protecting the Privacy of Customers of Broadband and Other Telecommunications Services Alerts (WC Docket No. 16-106).
|  | Summary: The Commission will consider a Report and Order that applies the privacy requirements of the Communications Act to broadband Internet access service providers and other telecommunications services to provide broadband customers with the tools they need to make informed decisions about the use and sharing of their information by their broadband providers.

Federal Communications Commission.
Marlene H. Dortch,
Secretary.

[FR Doc. 2016-26197 Filed 10-28-16; 8:45 am]

BILLING CODE 6712-01-P